DEPARTMENT OF LABOR

Occupational Safety and Health Administration

[Docket No. ICR 1218-0New1 (2003)]

Proposed Information Collection Request Submitted for Public Comment and Recommendations; Construction Project Survey

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Occupational Safety and Health Administration (OSHA) is soliciting comments concerning a proposed new information collection request entitled Construction Project Survey. A copy of the proposed information collection request (ICR) can be obtained by contacting the office listed below in the addresses section of this notice.

DATES: Written comments must be submitted to the office listed in the addressee section below on or before February 3, 2003. The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Suggest ways to minimize the burden of collection of information on those who are to respond, such as through the use of appropriate automated, electronic, mechanical, or other technological collection techniques or other forms of information technology, e.g., permitting electronic submissions of responses.

ADDRESSES: Comments are to be submitted to the Docket Office, Docket No. ICR 1218-0New1 (2003), U.S. Department of Labor, Room N-2625, 200 Constitution Ave., NW., Washington, DC 20210, telephone (202) 693-2350. Written comments limited to 10 pages or less in length may be transmitted by facsimile to (202) 693-1648.

FOR FURTHER INFORMATION CONTACT: Dave Schmidt, Office of Statistics, Occupational Safety and Health Administration, U.S. Department of Labor, room N3644, 200 Constitution Avenue, NW., Washington, DC 20210, telephone: (202) 693-1886. Copies of the referenced information collection request are available for inspection and copying in the Docket Office and will be mailed to persons who request copies by telephoning Dave Schmidt at (202) 693-1886 or Todd Owen at (202) 693-2444. For electronic copies of the OSHA Data Initiative information collection request, contact OSHA's Web page on the Internet at http://www.osha-slc.gov/OCIS/Info_coll.html.

SUPPLEMENTARY INFORMATION:

I. Background

OSHA proposes to collect occupational injury and illness data from general contractors at selected construction projects. The agency will collect this information from up to 2,500 employers. The collection of data will span the lifetime of the construction project. Participation in this data collection will be on a voluntary basis. OSHA will ask the general contractors to provide the average employment, hours worked, and general information pertaining to the construction project and detailed information pertaining to each work-related injury and illness that occurs at the construction project.

OSHA will compile the data, generate injury and illness rates by project type, and develop profiles of the relative hazards of various construction types. The agency will use the aggregate rates and profiles mainly to guide its future outreach and enforcement efforts towards the project types with the most significant hazards identified by the data. This collection will provide OSHA with data on illnesses and injuries that are associated with distinct types of construction activity, with the various phases of construction, and with the methods, materials, and hazards that are common to those types of work. With this data, OSHA will obtain a measure of injuries and illnesses that affect all employees—regardless of employer—on a common construction project. OSHA could then target its resources to projects with a greater potential for illness and injuries by weighting the selection of types of projects by their relatives degree of hazardousness.

II. Current Actions

This notice requests public comment pertaining to OMB approval of the paperwork requirements for the Construction Project Survey.

Type of Review: New collection.

Agency: Occupational Safety and Health Administration.

Title: Construction Project Survey.

OMB Number: 1218-XXXX.

Agency Number: ICR 1218-0New1 (2003).

Affected Public: Business or other for-profit.

Cite/Reference/Form/etc: Construction Project Survey Form.

Total Respondents: 2,500.

Frequency: Recordkeeping.

Average Time per Response: 3 hours.

Estimated Total Burden Hours: 7,500 hours.

Comments submitted in response to this comment request will be summarized and/or included in the request for Office of Management and Budget approval of the information collection request; they will also become a matter of public record.

Dated: November 26, 2002.
John L. Henshaw,
Assistant Secretary.

[FR Doc. 02-30581 Filed 12-2-02; 8:45 am]

BILLING CODE 4510-26-M